DEPARTMENT OF ENERGY

Federal Energy Regulatory Commission

Combined Notice of Filings #1

Take notice that the Commission received the following electric rate filings:

Docket Numbers: ER13-738-003; ER11-3097-007; ER10-1329-006; ER10-1277-006; ER10-1212-006; ER10-1211-006; ER10-1188-006; ER10-1186-006.

Applicants: DTE Electric Company, DTE Energy Trading, Inc., DTE River Rouge No. 1, LLC, DTE Energy Supply, Inc., DTE East China, LLC, DTE Pontiac North LLC, DTE Stoneman, LLC, St. Paul Cogeneration, LLC.

Description: Notice of Change in Status of the DTE MBR Entities.

Filed Date: 2/20/15.

Accession Number: 20150220-5253.

Comments Due: 5 p.m. ET 3/13/15.

Docket Numbers: ER13-198-007.

Applicants: PJM Interconnection, L.L.C.

Description: Compliance filing per 35: Compliance Filing per 1/22/15 Order in Docket Nos. ER13-198-004 to be effective 1/1/2014.

Filed Date: 2/23/15.

Accession Number: 20150223-5189.

Comments Due: 5 p.m. ET 3/16/15.

Docket Numbers: ER13-2477-006; ER87-592-001; ER14-1777-002; ER13-2476-006; ER13-2475-006; ER13-1485-003; ER12-192-009; ER11-4266-010; ER11-3867-011; ER11-3866-011; ER11-3864-012; ER11-3861-010; ER11-3859-011; ER11-3857-011; ER10-3310-007; ER10-3299-006; ER10-3253-003; ER10-3240-003; ER10-3239-003; ER10-3237-003; ER10-3233-002; ER10-3232-001; ER10-3231-002; ER10-3230-003; ER10-1946-009.

Applicants: Brayton Point Energy, LLC, Broad River Energy LLC, Dighton Power, LLC, ELWOOD ENERGY LLC, Empire Generating Co, LLC, EquiPower Resources Management, LLC, Kincaid Generation, L.L.C., Lake Road Generating Company, L.P., Liberty Electric Power, LLC, MASSPOWER, Milford Power Company, LLC, Richland-Stryker Generation LLC, New Harquahala Generating Company, LLC, Millenium Power Partners, L.P., New Athens Generating Company, LLC, Wheelabrator Baltimore, L.P., Wheelabrator Bridgeport, L.P., Wheelabrator Falls Inc., Wheelabrator Frackville Energry Co. Inc., Wheelabrator Millbury Inc., Wheelabrator North Andover Inc., Wheelabrator Portsmouth Inc., Wheelabrator Ridge Energy Inc., Wheelabrator Saugus Inc., Wheelabrator Shasta Energy Co. Inc., Wheelabrator South Broward Inc., Wheelabrator Westchester L.P.

Description: Supplement to January 20, 2015 Notice of Change in Status of the ECP MBR Sellers.

Filed Date: 2/20/15.

Accession Number: 20150220-5240.

Comments Due: 5 p.m. ET 3/13/15.

Docket Numbers: ER15-1082-000.

Applicants: Westwood Generation, LLC.

Description: Application for Limited Waiver of Westwood Generation, LLC.

Filed Date: 2/20/15.

Accession Number: 20150220-5261.

Comments Due: 5 p.m. ET 3/6/15.

Docket Numbers: ER15-1083-000.

Applicants: Niagara Mohawk Power Corporation, New York Independent System Operator, Inc.

Description: § 205(d) rate filing per 35.13(a)(2)(iii): NYISO filing of SA No. 2205 between NiMo and Covanta Niagara to be effective 12/30/2014.

Filed Date: 2/23/15.

Accession Number: 20150223-5106.

Comments Due: 5 p.m. ET 3/16/15.

Docket Numbers: ER15-1084-000.

Applicants: Duke Energy Progress, Inc., Duke Energy Florida, Inc., Duke Energy Carolinas, LLC.

Description: § 205(d) rate filing per 35.13(a)(2)(iii): OATT Attachment C Amendment to be effective 12/31/9998.

Filed Date: 2/23/15.

Accession Number: 20150223-5197.

Comments Due: 5 p.m. ET 3/16/15.

Take notice that the Commission received the following electric securities filings:

Docket Numbers: ES15-12-000.

Applicants: Northern Maine Independent System Administrator, Inc.

Description: Application of Northern Maine Independent System Administrator, Inc. for Authorization to Issue Securities Pursuant to Section 204 of the Federal Power Act.

Filed Date: 2/18/15.

Accession Number: 20150218-5132.

Comments Due: 5 p.m. ET 3/11/15.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 23, 2015.
Nathaniel J. Davis, Sr.,
Deputy Secretary.

[FR Doc. 2015-04207 Filed 2-27-15; 8:45 am]

BILLING CODE 6717-01-P